DEPARTMENT OF LABOR

Employment and Training Administration

[TA-W-58,768]

O'Mara Incorporated, Rutherford College, NC; Notice of Termination of Investigation

Pursuant to Section 221 of the Trade Act of 1974, as amended, an investigation was initiated on February 1, 2006 in response to a petition filed by a company official on behalf of workers of O'Mara Incorporated, Rutherford College, North Carolina.

The petitioner has requested that the petition be withdrawn. Consequently, the investigation has been terminated.

Signed at Washington, DC this 10th day of February, 2006.
Linda G. Poole,
Certifying Officer, Division of Trade Adjustment Assistance.

[FR Doc. E6-3075 Filed 3-2-06; 8:45 am]

BILLING CODE 4510-30-P